CORPORATION FOR NATIONAL AND COMMUNITY SERVICE

45 CFR Part 2500

RIN 3045-AA83

AmeriCorps Statement of Organization

AGENCY: Corporation for National and Community Service.

ACTION: Final rule.

SUMMARY: The Corporation for National and Community Service (CNCS), which operates as AmeriCorps, is finalizing a rule to provide general information to the public about its structure and purpose, as required by the Administrative Procedure Act. While AmeriCorps already provides information about its organizational structure on its public-facing website (americorps.gov), this rule would comply with the statutory requirement that agencies publish in the Federal Register their descriptions of organization. This rule will also increase transparency regarding AmeriCorps' operations by mapping out its existing program regulations, thereby providing an overview of the Agency's programs.

DATES: This rule is effective March 4, 2024.

FOR FURTHER INFORMATION CONTACT: Elizabeth Appel, Office of General Counsel, at (202) 967-5070, or eappel@americorps.gov.

SUPPLEMENTARY INFORMATION:

I. Background

AmeriCorps, the operating name for the Corporation for National and Community Service, is a Federal agency that engages millions of Americans in service. AmeriCorps members and AmeriCorps Seniors volunteers serve directly with nonprofit, tribal, faith-based, or community organizations to tackle some of our nation's most pressing challenges. Although AmeriCorps already provides information about its organizational structure on its website, americorps.gov, this rule complies with the statutory requirement that agencies “publish in the Federal Register” their descriptions of organization. See 5 U.S.C. 552(a)(1)(A). This rule will also increase transparency regarding AmeriCorps' operations by mapping out its existing program regulations, thereby providing an overview of the Agency's programs.

This rule adds AmeriCorps' organizational information to Code of Federal Regulations (CFR) part 2500. Part 2500 already includes information about AmeriCorps being CNCS's operating name and information about AmeriCorps' logos. This rule redesignates, without substantive change, the operating name and logo sections to new sections later in the CFR part and adds subpart designations. The following is a breakdown of the new and redesignated sections:

Current 45 CFR section | New 45 CFR section | Description of change
| Subpart A—Introduction | New subpart designation.
| 2500.1 Creation and authority | New section.
2500.1 Agency Operating Name | 2500.2 Agency operating name | Redesignated without substantive change.
| 2500.3 Purpose and mission | New section.
| Subpart B—Organization | New subpart designation.
| 2500.10 General | New section.
| 2500.11 AmeriCorps headquarters | New section.
| 2500.12 Region offices | New section.
| Subpart C—Programs | New subpart designation.
| 2500.20 Program descriptions | New section.
| 2500.21 Focus areas | New section.
| Subpart D—Logos | New subpart designation.
2500.2 Description of Logos | 2500.30 Description of logos | Redesignated without substantive change.
2500.3 Retirement of Logos | 2500.31 Retirement of logos | Redesignated without substantive change.
2500.4 Authority to affix logos | 2500.32 Authority to affix logos | Redesignated without substantive change.

The new sections describe AmeriCorps':

• Statutory basis and origination;

• Purpose, to administer the programs established under the national service laws; and mission, to improve lives, strengthen communities, and foster civic engagement through service and volunteering;

• Organization, including the roles of the Chief Executive Officer and the Board of Directors;

• Headquarters, including leadership positions; and region offices, referring to AmeriCorps' website for details on contact information;

• Four main national service programs: AmeriCorps NCCC, AmeriCorps Seniors, AmeriCorps State and National, and AmeriCorps VISTA; and

• Focus areas, which include, but are not limited to, disaster services, economic opportunity, education, environmental stewardship, healthy futures, and veterans and military families.

Edits to the sections addressing AmeriCorps' logos specify the logos' fonts and the direction of the flag in the logos and make minor grammatical changes.

II. Responses to Comments on Proposed Rule and Changes to Proposed Rule

AmeriCorps published the proposed rule on May 2, 2023. See 88 FR 27423. AmeriCorps received three written comment submissions prior to the July 3, 2023, deadline for public comments. All three comments expressed opposition to AmeriCorps' regional structure under the Office of Regional Operations and the logos and branding that resulted from the “Transformation and Sustainability Plan” that AmeriCorps adopted several years ago. Commenters recounted multiple challenges with the regional structure that replaced the State Office structure. AmeriCorps currently operates through the regional structure and strives to address grantees' concerns or the difficulties they face within that structure. However, because the rule merely describes the regional structure under which AmeriCorps currently operates, AmeriCorps is not reconsidering its structure at this time, and is proceeding with finalization of the description contained in the rule. However, AmeriCorps appreciates the commenters' input on the structure and welcomes ongoing communications to continually improve operations within the regional structure.

All three comments also expressed some opposition to the logos and branding, stating—among other reasons—that the logo and branding cause confusion. AmeriCorps appreciates the comments around the potential brand confusion; however, because no substantive change was proposed for the sections related to logos and branding (only a redesignation of section numbers), AmeriCorps is maintaining the current rule with finalization of the proposed section redesignations.

The only changes to the proposed rule that the final rule makes are minor wording changes for clarity and additional explanation of AmeriCorps NCCC. In § 2500.10, regarding the general organization of the Agency, the final rule clarifies that the Chief Executive Officer is responsible for exercising powers and discharging duties set out in the National and Community Service Act of 1990, as amended, 42 U.S.C. 12501 et seq. (NCSA), and that the Board is responsible for discharging duties set out in the NCSA. In §§ 2500.10(c) and 2500.12, the final rule clarifies that there are two separate sets of regions under AmeriCorps' structure: one for AmeriCorps NCCC and one for AmeriCorps' Office of Regional Operations. In § 2500.20, the final rule adds references to a newly operational sub-program, NCCC Forest Corps, and the Agency's Disaster Services Unit.

III. Regulatory Analyses

A. Executive Orders 12866 and 13563

Executive Orders (E.O.) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Information and Regulatory Affairs in the Office of Management and Budget has determined that this is not a significant regulatory action.

B. Congressional Review Act (Small Business Regulatory Enforcement Fairness Act of 1996, Title II, Subtitle E)

As required by the Congressional Review Act (5 U.S.C. 801-808), before an interim or final rule takes effect, AmeriCorps will submit an interim or final rule report to the U.S. House of Representatives, U.S. Senate, and to the Comptroller General of the U.S. A major rule cannot take effect until 60 days after it is published in the Federal Register. The Office of Information and Regulatory Affairs in the Office of Management and Budget determined this is not a major rule under 5 U.S.C. 804 because this rule will not result in (1) an annual effect on the economy of $100 million or more; (2) a major increase in costs or prices for consumers, individual industries, Federal, State, or local Government agencies, or geographic regions; or (3) significant adverse effects on competition, employment, investment, productivity, innovation, or on the ability of U.S.-based enterprises to compete with foreign-based enterprises in domestic and export markets.

C. Regulatory Flexibility Act

As required by the Regulatory Flexibility Act of 1980 (5 U.S.C. 601 et seq.), AmeriCorps certifies that this rule, if adopted, will not have a significant economic impact on a substantial number of small entities. Therefore, AmeriCorps has not performed the initial regulatory flexibility analysis that is required under the Regulatory Flexibility Act (5 U.S.C. 601 et seq.) for rules that are expected to have such results.

D. Unfunded Mandates Reform Act of 1995

For purposes of Title II of the Unfunded Mandates Reform Act of 1995, 2 U.S.C. 1531-1538, as well as Executive Order 12875, this regulatory action does not contain any Federal mandate that may result in increased expenditures in either Federal, State, local, or Tribal Governments in the aggregate, or impose an annual burden exceeding $100 million on the private sector.

E. Paperwork Reduction Act

Under the Paperwork Reduction Act (PRA), an agency may not conduct or sponsor a collection of information unless the collections of information display valid control numbers. This rule does not include any information collections requiring approval by the Office of Management and Budget.

F. Executive Order 13132, Federalism

Executive Order 13132, Federalism, prohibits an agency from publishing any rule that has federalism implications if the rule imposes substantial direct compliance costs on State and local governments and is not required by statute, or the rule preempts State law, unless the agency meets the consultation and funding requirements of section 6 of the Executive order. This rulemaking does not have any federalism implications, as described above.

G. Takings (E.O. 12630)

This rule does not affect a taking of private property or otherwise have taking implications under Executive Order 12630 because this rule does not affect individual property rights protected by the Fifth Amendment or involve a compensable “taking.” A takings implication assessment is not required.

H. Civil Justice Reform (E.O. 12988)

This rule complies with the requirements of Executive Order 12988. Specifically, this rulemaking: (a) meets the criteria of section 3(a) requiring that all regulations be reviewed to eliminate errors and ambiguity and be written to minimize litigation; and (b) meets the criteria of section 3(b)(2) requiring that all regulations be written in clear language and contain clear legal standards.

I. Consultation With Indian Tribes (E.O. 13175)

AmeriCorps recognizes the inherent sovereignty of Indian Tribes and their right to self-governance. We have evaluated this rulemaking under our consultation policy and the criteria in E.O. 13175 and determined that this rule does not impose substantial direct effects on federally recognized Tribes.

List of Subjects in 45 CFR Part 2500

Organization and functions (Government agencies).

For the reasons discussed in the preamble, under the authority of 42 U.S.C. 12651c(c), the Corporation for National and Community Service revises 45 CFR part 2500 to read as follows:

PART 2500—AMERICORPS STATEMENT OF ORGANIZATION, AGENCY OPERATING NAME, AND LOGOS

Subpart A—Introduction
Sec.
2500.1 Creation and authority.
2500.2 Agency operating name.
2500.3 Purpose and mission.
Subpart B—Organization
2500.10 General.
2500.11 AmeriCorps leadership.
2500.12 Region offices.
Subpart C—Programs
2500.20 Program descriptions.
2500.21 Focus areas.
Subpart D—Logos
2500.30 Description of logos.
2500.31 Retirement of logos.
2500.32 Authority to affix logos.

Authority: 5 U.S.C. 552(a)(1); 42 U.S.C. 4950, et seq., as amended; 42 U.S.C. 12501 et seq., as amended; section 203(c), Pub. L. 103-82, 107 Stat. 892; Proc. 6662, 59 FR 16507, 3 CFR, 1994 Comp., p. 22).

Subpart A—Introduction

§ 2500.1 Creation and authority.

The National and Community Service Trust Act of 1993 established the Corporation for National and Community Service (CNCS) as a Federal agency, organized in the form of a Government corporation within the Executive Branch, to administer the national service programs authorized by the National and Community Service Act of 1990. CNCS also administers the national service programs authorized by the Domestic Volunteer Service Act of 1973, as amended, and previously administered by the former Federal ACTION Agency.

§ 2500.2 Agency operating name.

(a) The Corporation for National and Community Service has adopted AmeriCorps as its official agency operating name.

(b) Use of AmeriCorps as the agency operating name incorporates the Corporation for National and Community Service by reference.

§ 2500.3 Purpose and mission.

AmeriCorps' purpose is to administer the programs established under the national service laws. AmeriCorps' mission is to improve lives, strengthen communities, and foster civic engagement through service and volunteering.

Subpart B—Organization

§ 2500.10 General.

(a) The Chief Executive Officer (CEO) is the head of AmeriCorps. The CEO has authority and control over AmeriCorps personnel, except those in the Agency's Office of Inspector General, and is responsible for exercising the powers and discharging the duties authorized by the National and Community Service Act of 1990, as amended, that are not otherwise reserved to the Board of Directors.

(b) The Board of Directors is responsible for discharging the duties authorized to it by the National and Community Service Act of 1990, as amended.

(c) AmeriCorps consists of headquarters and two sets of regions: Office of Regional Operations regions and AmeriCorps NCCC regions.

§ 2500.11 AmeriCorps leadership.

(a) AmeriCorps' leadership conducts overall planning, coordination of programs, and all supporting internal operations. AmeriCorps leadership includes, but is not limited to, the following AmeriCorps officials:

(1) CEO.

(2) Chief of Staff.

(3) General Counsel.

(4) Chief Operating Officer.

(5) Chief Financial Officer.

(6) Chief Program Officer.

(7) Chief Diversity and Inclusion Officer.

(8) Directors of AmeriCorps programs and offices.

(b) AmeriCorps' public website contains current information on Agency leadership at www.americorps.gov/about/our-team/our-leadership.

§ 2500.12 Region offices.

AmeriCorps' Office of Regional Operations and AmeriCorps NCCC each have a regional structure.

(a) AmeriCorps' Region Offices, within the Office of Regional Operations, serve assigned States and Territories across eight regions. The AmeriCorps website contains contact information for each of these Region Offices at www.americorps.gov/contact/region-offices.

(b) AmeriCorps National Civilian Community Corps (NCCC) has a campus facility in each of its regions, which serve the States and Territories. The AmeriCorps website contains contact information for each of the NCCC regions at www.americorps.gov/contact/americorps-nccc-regions.

Subpart C—Programs

§ 2500.20 Program descriptions.

(a) AmeriCorps operates four main national service programs: AmeriCorps NCCC, AmeriCorps Seniors, AmeriCorps State and National, and AmeriCorps VISTA. Additional information on each of these programs and additional AmeriCorps programs is available at www.americorps.gov.

(1) AmeriCorps NCCC is a full-time residential service program for individuals aged 18 to 24 (unless otherwise authorized), as defined by statute. Individuals serving in the NCCC program complete team-based service projects that respond to priority national and community needs. AmeriCorps NCCC program staff recruit, train, and manage volunteers (called “members”) and partner with organizations that serve as project sponsors. FEMA Corps is a sub-program that AmeriCorps NCCC manages in partnership with the Federal Emergency Management Agency. It places members in service positions to perform disaster public assistance, planning, preparedness, and recovery activities. The NCCC Forest Corps is a sub-program that AmeriCorps NCCC manages in partnership with the U.S. Forest Service. It places members in service positions to perform wildfire mitigation, reforestation, and climate resiliency activities. Finally, NCCC houses the agency's Disaster Services Unit (DSU), the entity which coordinates with FEMA to secure funding to mobilize AmeriCorps NCCC and AmeriCorps State and National members under a federally declared disaster.

(2) AmeriCorps Seniors focuses on providing service opportunities for individuals aged 55 years or older. It operates four national service programs: the Foster Grandparent Program, Senior Companion Program, RSVP, and the Senior Demonstration Program. Under each of these programs, AmeriCorps Seniors provides grants to sponsoring organizations to meet priority national and community needs. The sponsoring organizations then recruit and enlist local volunteers, and address performance measures as required by grant terms and conditions.

(3) AmeriCorps State and National provides grants to States, Territories, Indian Tribes, public and private nonprofit organizations, local governments, and institutions of higher education to carry out national service programs, offering a wide range of service opportunities. In addition to grant funds to support direct programming, AmeriCorps State and National also provides general operating funding for State service commissions.

(4) AmeriCorps VISTA is a program for individuals aged 18 and older to participate in full-time service to strengthen and supplement efforts to eliminate and alleviate poverty and poverty-related problems in the United States. AmeriCorps VISTA partners with local organizations to recruit, select, train, and assign volunteers (“members”) to work on projects at a sponsoring organization or one of its project sites.

(b) In addition to its four main national service programs, AmeriCorps also operates several additional programs and activities. These include the Martin Luther King, Jr., Day of Service; the September 11th Day of Service and Remembrance; the Volunteer Generation Fund; and other national service programs that AmeriCorps establishes through agreements with other Federal agencies.

§ 2500.21 Focus areas.

Through its programs, AmeriCorps provides funding and volunteer opportunities to address pressing unmet human, educational, environmental, and public safety needs of the United States, without displacing existing workers, and to meet the additional purposes set out in the national service laws. AmeriCorps' focus areas include, but are not limited to, disaster services, economic opportunity, education, environmental stewardship, healthy futures, and veterans and military families.

Subpart D—Logos

§ 2500.30 Description of logos.

(a) The AmeriCorps logo (Logo) is the key element in agency identification. It provides a visual representation of the Agency's role to unite America by bringing people together to serve communities. It is symbolic of the way AmeriCorps members and volunteers lift and improve communities through service and volunteering. This Logo links the graphic communications of all Agency programs.

(b) The Logo is an image of a solid circle containing an A where the right-hand pillar is a solid block line and the left-hand pillar is represented by a flagpole with the flag in motion, appearing to fly from the left to the right and forming the A as the flag intersects with the other pillar. AmeriCorps appears in bold to the right of the mark.

(c) The AmeriCorps Seniors logo (Seniors Logo) identifies the highlighted AmeriCorps Seniors programs and represents the Agency's commitment to programs and volunteer opportunities for older Americans.

(d) The Seniors Logo contains the word Seniors beneath AmeriCorps, to the right of the circle containing the A.

§ 2500.31 Retirement of logos.

The agency officially retired the day-to-day use of all pre-existing logos, emblems, and other insignia, except the Days of Service logos, but does not relinquish the legal rights to any retired logos.

§ 2500.32 Authority to affix logos.

Restrictions on the use of AmeriCorps logos are found in 45 CFR 2540.500 through 2540.560.

Fernando Laguarda,
General Counsel.

[FR Doc. 2024-01555 Filed 1-31-24; 8:45 am]

BILLING CODE 6050-28-P